DEPARTMENT OF LABOR

Employment and Training Administration

[TA-W-65,820]

Swanson Group/Swanson Aviation LLC, Grants Pass, OR; Notice of Termination of Investigation

Pursuant to Section 221 of the Trade Act of 1974, as amended, an investigation was initiated on April 20, 2009 in response to a petition filed on behalf of workers at Swanson Group/Swanson Aviation LLC, Grants Pass, Oregon.

The petitioners have requested that the petition be withdrawn. Consequently, the investigation has been terminated.

Signed at Washington, DC, this 14th day of May 2009.
Richard Church,
Certifying Officer, Division of Trade Adjustment Assistance.

[FR Doc. E9-13906 Filed 6-12-09; 8:45 am]

BILLING CODE 4510-FN-P